DEPARTMENT OF ENERGY

Federal Energy Regulatory Commission

[Project No. P-4021]

Buck Creek Corporation; Notice of Site Visit

July 24, 2002.

Buck Creek Corporation, licensee for the Lake Tahoma Hydroelectric Project (Project), is requesting to surrender its license. On August 14, 2002, the staff of the Office of Energy Projects (OEP) will conduct a site visit of the Project. Representatives of Buck Creek Corporation will accompany the OEP staff. All interested parties may meet at 10:00 a.m. at the Project powerhouse located at the Lake Tahoma dam. Attendees must provide their own transportation.

For further information, please contact Shannon Dunn at (202) 208-0853 or the Commission's Office of External Affairs at (866) 208-FERC.

Linwood A. Watson, Jr.,
Deputy Secretary.

[FR Doc. 02-19205 Filed 7-29-02; 8:45 am]

BILLING CODE 6717-01-P